DEPARTMENT OF HEALTH AND HUMAN SERVICES

Administration for Children and Families

Office of Community Services; Grant to the Concordia Avondale Campus

AGENCY: Office of Community Services, ACF, HHS.

ACTION: Award announcement.

SUMMARY: Notice is hereby given that ACF will award grant funds without competition to Concordia Avondale Campus in Chicago, Illinois. This grant is being awarded for a project that conforms to the applicable program objectives, is within legislative authorities, and proposes activities that may be lawfully supported through grant mechanisms. Their grant application is of outstanding and unique merit and presents an opportunity to produce meaningful, sustainable, and useful results in an area of significant interest to ACF.

The Concordia Avondale project will support a two-year effort to provide social and economic services that support low-income, working poor and single-parent families in their communities. These services include child care and after-school programs in the North Center, Lakeview and Ravenswood communities through a sliding scale tuition. The project will be funded at $700,000 for the first year and $800,000 for the second year.

FOR FURTHER INFORMATION CONTACT: Carol Watkins, Office of Community Services on (202) 401-9356.

Dated: November 24, 2003.
Clarence Carter,
Director, Office of Community Services.

[FR Doc. 03-29837 Filed 11-28-03; 8:45 am]

BILLING CODE 4184-01-P